DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Due to an administrative error, set forth below is a list of petitions received by HRSA on December 1, 2019, through December 31, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Marla Henry on behalf of K. H., Odenton, Maryland, Court of Federal Claims No: 19-1826V

2. Raymond P. Brady, Wilmington, Delaware, Court of Federal Claims No: 19-1832V

3. Klaudia Aubuchon, Claremont, California, Court of Federal Claims No: 19-1833V

4. Jean Robey, Honesdale, Pennsylvania, Court of Federal Claims No: 19-1839V

5. Misty Rastetter and Matthew Rastetter, on behalf of G. R., Rockwell City, Iowa, Court of Federal Claims No: 19-1840V

6. Robert Bachant, Las Vegas, Nevada, Court of Federal Claims No: 19-1841V

7. Karam Zakharia, Metairie, Louisiana, Court of Federal Claims No: 19-1842V

8. Quanda Luna, St. Louis, Missouri, Court of Federal Claims No: 19-1843V

9. Paul Ware, Elberta, Alabama, Court of Federal Claims No: 19-1844V

10. Gene Bostwick, Jr., Champaign, Illinois, Court of Federal Claims No: 19-1845V

11. Margaret Hill, Charleston, South Carolina, Court of Federal Claims No: 19-1847V

12. Mark Thoma, Phoenix, Arizona, Court of Federal Claims No: 19-1848V

13. Shadrack Agyekum, Richmond, Virginia, Court of Federal Claims No: 19-1849V

14. Debra J. Moore, Rock Island, Illinois, Court of Federal Claims No: 19-1850V

15. Donna Hyatt, Spartanburg, South Carolina, Court of Federal Claims No: 19-1851V

16. Robert P. Dipietro, Wellesley Hills, Massachusetts, Court of Federal Claims No: 19-1853V

17. Dennis Mantia, Wellesley Hills, Massachusetts, Court of Federal Claims No: 19-1854V

18. Janet Schreiber, Union, Kentucky, Court of Federal Claims No: 19-1855V

19. Barry Gabriel Broaddus, Greensburg, Pennsylvania, Court of Federal Claims No: 19-1856V

20. Jermaine A. Hampton, Waupun, Wisconsin, Court of Federal Claims No: 19-1857V

21. Kara Hinkley, Asheville, North Carolina, Court of Federal Claims No: 19-1858V

22. Maria Cristina Nargi, New York, New York, Court of Federal Claims No: 19-1859V

23. Kenneth J. Wojewocki, Lockport, Illinois, Court of Federal Claims No: 19-1860V

24. Kevin T. Gaines, Akron, Ohio, Court of Federal Claims No: 19-1861V

25. Joshua Schulz, San Antonio, Texas, Court of Federal Claims No: 19-1863V

26. Andrea Ellington, Beavercreek, Ohio, Court of Federal Claims No: 19-1866V

27. Jacquelyn Dunaway Ferguson, Roseville, California, Court of Federal Claims No: 19-1867V

28. Sherri McCoyle, Marion, North Carolina, Court of Federal Claims No: 19-1870V

29. Holly C. Freed, St. Cloud, Minnesota, Court of Federal Claims No: 19-1871V

30. Meridith Vaughan, Oshkosh, Wisconsin, Court of Federal Claims No: 19-1872V

31. Kathleen Almodova on behalf of A. A., Elizabeth City, North Carolina, Court of Federal Claims No: 19-1873V

32. Kerry Ann Neff on behalf of A. N., Chattanooga, Tennessee, Court of Federal Claims No: 19-1875V

33. Lisa Meirndorf, Pinckney, Michigan, Court of Federal Claims No: 19-1876V

34. Gary Zegarelli, Utica, New York, Court of Federal Claims No: 19-1877V

35. Catherine Grace Boss, Los Angeles, California, Court of Federal Claims No: 19-1879V

36. Catherine Grace Boss, Los Angeles, California, Court of Federal Claims No: 19-1880V

37. Catherine Grace Boss, Los Angeles, California, Court of Federal Claims No: 19-1881V

38. Toni Jefferson, East Norriton, Pennsylvania, Court of Federal Claims No: 19-1882V

39. Frances A. Vaccaro, Summerville, South Carolina, Court of Federal Claims No: 19-1883V

40. Juanita Chaplin, Camp Springs, Maryland, Court of Federal Claims No: 19-1884V

41. Issam Jubil on behalf of R. J., Norwood, Massachusetts, Court of Federal Claims No: 19-1885V

42. Julia White, Rock Hill, South Carolina, Court of Federal Claims No: 19-1886V

43. Mary Sutton, Liberty, North Carolina, Court of Federal Claims No: 19-1887V

44. Chandler K. Nitzke, Ripon, Wisconsin, Court of Federal Claims No: 19-1889V

45. Elaine Gosnell, Spartanburg, South Carolina, Court of Federal Claims No: 19-1890V

46. Lisa Helfrich, Lancaster, Pennsylvania, Court of Federal Claims No: 19-1895V

47. Diane Roeder on behalf of M. M. R., Glendale, California, Court of Federal Claims No: 19-1897V

48. Victor Waggoner, Spokane, Washington, Court of Federal Claims No: 19-1900V

49. Ernestina Hernandez, Gardena, California, Court of Federal Claims No: 19-1901V

50. Kenneth P. Starace, Brooklyn, New York, Court of Federal Claims No: 19-1902V

51. Tony Harris, Dallas, Texas, Court of Federal Claims No: 19-1903V

52. George Moore, Wilson, North Carolina, Court of Federal Claims No: 19-1904V

53. Micah Parten and Jillian Parten on behalf of P. P., Mobile, Alabama, Court of Federal Claims No: 19-1906V

54. Maggie Vollenweider, Hammond, Louisiana, Court of Federal Claims No: 19-1909V

55. Betty Knight, Decatur, Texas, Court of Federal Claims No: 19-1910V

56. Sarah Tan, St. Louis, Missouri, Court of Federal Claims No: 19-1911V

57. Stephanie Scotto, Edison, New Jersey, Court of Federal Claims No: 19-1912V

58. Audrey Clapp, Harriman, Tennessee, Court of Federal Claims No: 19-1913V

59. Sarah Griffore, Alpena, Michigan, Court of Federal Claims No: 19-1914V

60. Garland Carter, Camden, New Jersey, Court of Federal Claims No: 19-1915V

61. Robert McCabe, Northfield, New Jersey, Court of Federal Claims No: 19-1916V

62. Debra Cain, Colorado Springs, Colorado, Court of Federal Claims No: 19-1917V

63. Maria L. Ison, Batesville, Indiana, Court of Federal Claims No: 19-1918V

64. Colleen Sexton, Boston, Massachusetts, Court of Federal Claims No: 19-1919V

65. Mary McNear, Newark, New Jersey, Court of Federal Claims No: 19-1920V

66. Laura Putman on behalf of B. P., Martinsburg, West Virginia, Court of Federal Claims No: 19-1921V

67. Leslie Woolard, Atlantic, North Carolina, Court of Federal Claims No: 19-1922V

68. Mariah Wallace, Watertown, New York, Court of Federal Claims No: 19-1923V

69. Janice Berkow, Hickory, North Carolina, Court of Federal Claims No: 19-1925V

70. Lisa Adams, Columbia, South Carolina, Court of Federal Claims No: 19-1926V

71. Ana Bruno Garcia, Milford, Connecticut, Court of Federal Claims No: 19-1927V

72. Haley Tylkowski, Cayman Tylkowski and the Estate of O. W. T. on behalf of O. W. T., Deceased, Tulsa, Oklahoma, Court of Federal Claims No: 19-1929V

73. Eric Robertson, Cameron, North Carolina, Court of Federal Claims No: 19-1931V

74. Brenda Hundley, Richmond, Virginia, Court of Federal Claims No: 19-1934V

75. Sorah Kline and Nathan M. Kline on behalf of R. K., New York, New York, Court of Federal Claims No: 19-1936V

76. Holly F. Kahler, Marysville, Washington, Court of Federal Claims No: 19-1938V

77. Carl E. Dean, Cleveland, Ohio, Court of Federal Claims No: 19-1940V

78. Jessica J. Hein, Waterloo, Iowa, Court of Federal Claims No: 19-1943V

79. Gabriel Mejias, Atlantic City, New Jersey, Court of Federal Claims No: 19-1944V

80. Liana Asbury, Concord, New Hampshire, Court of Federal Claims No: 19-1945V

81. Glenda Kellett, Flowery Branch, Georgia, Court of Federal Claims No: 19-1946V

82. Sherri Staveski, Hudson, Florida, Court of Federal Claims No: 19-1949V

83. Elisa Garcia, Boston, Massachusetts, Court of Federal Claims No: 19-1952V

84. Randy Woodrow Nolen, Shreveport, Louisiana, Court of Federal Claims No: 19-1953V

85. Mackenzie Cramer, Richfield, Minnesota, Court of Federal Claims No: 19-1954V

86. Christopher Logan Silva, New Hyde Park, New York, Court of Federal Claims No: 19-1955V

87. Willa Lau, Sioux City, Iowa, Court of Federal Claims No: 19-1956V

88. Angela Quinn Cross, Alturas, California, Court of Federal Claims No: 19-1958V

89. Marva Beck, Knoxville, Tennessee, Court of Federal Claims No: 19-1959V

90. Virginia Bennett, Colorado Spring, Colorado, Court of Federal Claims No: 19-1963V

91. Heather Berman, Boca Raton, Florida, Court of Federal Claims No: 19-1965V

92. Brian Stromer, New York, New York, Court of Federal Claims No: 19-1969V

93. Megan Swanzer, Elyria, Ohio, Court of Federal Claims No: 19-1970V

94. Sharoll Critten, Dothan, Alabama, Court of Federal Claims No: 19-1971V

95. Timothy Elenteny, Boulder, Colorado, Court of Federal Claims No: 19-1972V

96. Percy Glanville, Boston, Massachusetts, Court of Federal Claims No: 19-1973V

97. Christina Lepre, East Boston, Massachusetts, Court of Federal Claims No: 19-1974V

98. Brenda Burciago, Manteca, California, Court of Federal Claims No: 19-1975V

99. Eugene Murray, Jonesboro, Georgia, Court of Federal Claims No: 19-1976V

100. Terry Klausen, Rochester, Michigan, Court of Federal Claims No: 19-1977V

101. Terry Klausen, Rochester, Michigan, Court of Federal Claims No: 19-1978V

102. Christina K. Fee, Ellwood City, Pennsylvania, Court of Federal Claims No: 19-1979V

103. Joseph Rubino, Nesconset, New York, Court of Federal Claims No: 19-1980V

104. Karen Godwin, Ames, Iowa, Court of Federal Claims No: 19-1981V

105. Amanda Kirby on behalf of C. K., Voorhees, New Jersey, Court of Federal Claims No: 19-1983V

106. Bobby Hulon, Fayetteville, North Carolina, Court of Federal Claims No: 19-1985V

107. Charlee Mitchell, Trussville, Alabama, Court of Federal Claims No: 19-1987V

108. Angelica Davila, Boston, Massachusetts, Court of Federal Claims No: 19-1988V

109. Robin O'Brien, Hudson, New Hampshire, Court of Federal Claims No: 19-1989V

110. Amy McCallum, Wyoming, Michigan, Court of Federal Claims No: 19-1991V

111. Thomas Ahartz, Las Vegas, Nevada, Court of Federal Claims No: 19-1992V

112. Alma Nelson, Spokane, Washington, Court of Federal Claims No: 19-1993V

113. Patrick Shediak, Kettering, Ohio, Court of Federal Claims No: 19-1994V

114. Barry Fuller, Mukilteo, Washington, Court of Federal Claims No: 19-1995V

115. Bruce Isenor, New Prague, Minnesota, Court of Federal Claims No: 19-1996V

116. Tracy Renee Ruddy, Auburn, California, Court of Federal Claims No: 19-1998V

117. William Gadd, Fullerton, California, Court of Federal Claims No: 19-2001V

118. Diane D'Amico, Boardman, Ohio, Court of Federal Claims No: 19-2003V

119. Matthew An, Los Angeles, California, Court of Federal Claims No: 19-2004V

120. Wesley Dumas, New York, New York, Court of Federal Claims No: 19-2007V

121. Deborah Wood, White Plains, New York, Court of Federal Claims No: 19-2008V

122. Richard Robinson, Boston, Massachusetts, Court of Federal Claims No: 19-2011V

123. Thomas Jeffrey Mickles, Greensboro, North Carolina, Court of Federal Claims No: 19-2012V

124. Rosita Smith, Dresher, Pennsylvania, Court of Federal Claims No: 19-2013V

125. Trevor Howell, Washington, District of Columbia, Court of Federal Claims No: 19-2015V

126. Kimberly Draeger, Milwaukee, Wisconsin, Court of Federal Claims No: 19-2016V

127. Howard C. Wilinsky, M.D., Buffalo, New York, Court of Federal Claims No: 19-2017V

128. Troy J. Bodak, Sioux City, Iowa, Court of Federal Claims No: 19-2019V

129. Alice Rivas, Cheyenne, Wyoming, Court of Federal Claims No: 19-2020V

130. Donald Doerksen on behalf of Fredda Doerksen, Deceased, Cheyenne, Wyoming, Court of Federal Claims No: 19-2021V

131. Eric Kurtz, M.D., Boston, Massachusetts, Court of Federal Claims No: 19-2022V

[FR Doc. 2020-06629 Filed 3-30-20; 8:45 am]

BILLING CODE 4165-15-P